DEPARTMENT OF COMMERCE

International Trade Administration

A-821-819

Notice of Extension of Time Limit for Preliminary Results of Antidumping Duty Administrative Review: Magnesium Metal From the Russian Federation

AGENCY: Import Administration, International Trade Administration, Department of Commerce

EFFECTIVE DATE: December 13, 2006.

FOR FURTHER INFORMATION CONTACT: Gene Calvert or Jun Jack Zhao,AD/CVD Operations, Office 6, Import Administration, International Trade Administration, U.S. Department of Commerce, 14th Street and Constitution Avenue, NW, Washington, DC 20230; telephone: (202) 482-3586 or (202) 482-1396, respectively.

Background

The Department of Commerce (the Department) published an antidumping duty order on magnesium metal from the Russian Federation on April 15, 2005. See Notice of Antidumping Duty Order: Magnesium Metal from the Russian Federation, 70 FR 19930 (April 15, 2005). On April 4, 2006 and April 6, 2006, PSC VSMPO-AVISMA Corporation (formerly known as JSC AVISMA Titianium-Magnesium Works) and its affiliated U.S. reseller VSMPO-Tirus, U.S. Inc., and Solikamsk Magnesium Works, Russian Federation producers of the subject merchandise, respectively requested that the Department conduct an administrative review. On April 28, 2006, U.S. Magnesium Corporation LLC, petitioner in the investigation, also requested that the Department conduct an administrative review. On May 31, 2006, the Department published a notice of initiation of an administrative review of the antidumping duty order on the subject merchandise, for the period October 4, 2004, through March 31, 2006. See Initiation of Antidumping and Countervailing Duty Administrative Reviews and Request for Revocation in Part, 71 FR 30864 (May 31, 2006). The preliminary results of this administrative review are currently due no later than December 31, 2006.

Extension of Time Limit for Preliminary Results

Pursuant to section 751(a)(3)(A) of the Tariff Act of 1930, as amended, (the Act), the Department shall issue preliminary results in an administrative review of an antidumping duty order within 245 days after the last day of the anniversary month of the date of the publication of the order. The Act further provides, however, that the Department may extend the deadline for the completion of the preliminary results of a review from 245 days to 365 days if it determines that it is not practicable to complete the preliminary results within the 245-day period. See section 751(a)(3)(A) of the Act. Due to the complexity of issues present in this administrative review, such as complicated cost accounting issues regarding the revaluation of capital assets and the calculation of the proper byproduct offset values which will be used to determine production costs of the subject merchandise, the Department has determined that it is not practicable to complete the review within the original time period.

Section 751(a)(3)(A) of the Act and section 351.213(h)(2) of the Department's regulations allow the Department to extend the deadline for the preliminary results to a maximum 365 days from the last day of the anniversary month of the order. For the reason noted above, we are extending the time for the completion of preliminary results until no later than April 30, 2007. The deadline for the final results of this administrative review continues to be 120 days after the publication of the preliminary results.

This notice is issued and published in accordance with section 751(a)(3)(A) of the Act.

Dated: December 6, 2006.
Stephen J. Claeys
Deputy Assistant Secretary for Import Administration

[FR Doc. E6-21209 Filed 12-12-06; 8:45 am]

BILLING CODE 3510-DS-S